FEDERAL EMERGENCY MANAGEMENT AGENCY

Cooperating Technical Communities

AGENCY: Federal Emergency Management Agency (FEMA).

ACTION: Notice of Cooperating Technical Communities flood hazard mapping initiative.

SUMMARY: We (FEMA) give notice of the Cooperating Technical Communities initiative that will recognize and encourage participation by states, regional agencies, and communities in the flood hazard mapping process.

DATES: Pilot projects are ongoing.

FOR FURTHER INFORMATION CONTACT: Your FEMA Regional Cooperating Technical Communities Coordinator. We list contact names for the coordinators under Section (e) of this document.

SUPPLEMENTARY INFORMATION: (a) Background. Throughout this notice, the terms “we,” “our,” and “us,” refers to FEMA. We administer the National Flood Insurance Program (NFIP) and under § 1360 of the National Flood Insurance Act of 1968, as amended (42 U.S.C. 4101), we establish and update flood-risk zone data in floodplain areas. In the identification of flood-prone areas, we may consult with, receive information from, and enter into agreements or other arrangements with the head of any State, regional, or local agency in order to identify these floodplain areas.

We are implementing the Cooperating Technical Communities (CTC) concept as part of our Flood Map Modernization plan (http://www.fema.gov/library/mapmod.pdf). The CTC initiative will formally recognize and encourage the ongoing contributions that our mapping partners—States, regional agencies, and communities—make in assisting us in providing timely and accurate flood hazard information. The participating entity will enter into a partnership agreement with us to develop or maintain all or a component of its flood hazard maps.

CTC partnerships will maximize the effectiveness of the limited local and Federal funding available for flood mapping, while maintaining consistent national standards. Through these partnerships, the integration of locally-funded or developed flood and mapping data in the flood mapping process will enable contributing partners to expand the scope of our flood mapping efforts. We expect that this will result in enhanced responsibility for the maps by the partners and, in turn, heightened local awareness of flood risks, more effective floodplain management, and more accurate maps. The Cooperating Technical Communities initiative includes both locally-funded and FEMA-funded activities.

Under the initiative, we and the partner will enter a general overall agreement (CTC Agreement) that recognizes the fundamental importance of flood hazard identification, as well as flood insurance and floodplain management. Then, as the CTC partner and we identify specific flood mapping activities to undertake, we and the CTC partner will develop and enter into Mapping Activity Agreements under the umbrella of the overall CTC Agreement.

We envision that most Mapping Activity Agreements will be collaborative efforts where both the CTC partner and FEMA contribute data and units of work to maximize the extent, accuracy, and utility of flood studies to best meet local and Federal needs, while minimizing costs for all parties. Federal funding will be limited even if we can allocate supplemental map modernization funding. In any event, we will allocate funding within the context of our flood study prioritization process.

We will consider Fiscal Year 2000 as a pilot year for this initiative. Initial Guidance is available at http://www.fema.gov/mit/tsd/CTC_main.htm.

(b) Availability of Fiscal Year 2000 Funds.

We have set aside $3,500,000 to be available for FEMA-funded CTC activities in Fiscal Year 2000. We have identified partners as potential recipients of funding through CTC agreements for this pilot year. We based the selection on floodplain mapping needs and on the partners' interest, contributions, and their capability to perform the types of activities that we identified for the pilot effort.

(c) Activities.

All of the activities listed below contain the following benefits for both the CTC partner and for FEMA:

• Local capabilities in hazard identification and risk assessment—the building blocks for disaster resistance—will be enhanced through FEMA technical assistance, experience, standards, and funding;

• The data, methods, and mapping used for local, regional, and state per mitting processes will also be used for NFIP mapping, to the extent possible;

• Close coordination and involvement in the flood hazard mapping process will result in more efficient local floodplain management by the CTC partners;

• The program has the potential to interject a tailored, local focus into a national program where unique conditions may exist that necessitate special approaches to flood hazard identification.

• By incorporating local knowledge and expertise, we expect that National Flood Insurance Program flood hazard maps will be more accurate and can be updated faster than now.

Mapping Activity Agreements will support the development of flood hazard mapping or a component of the production and maintenance of flood hazard mapping. The CTC partner and we will collaborate on these mapping activities. We may provide technical assistance, support, and data to the CTC partner. In some cases, funding may also be available. The following mapping activities may receive funding in Fiscal Year 2000 through a cooperative agreement with us:

Activity | Partner | Description
Refinement of Approximate Zone A Boundaries | Community/Regional/State Agency | The CTC partner works with FEMA to perform analyses to refine Zone A boundaries. Emphasis placed on automation techniques.
Hydrologic & Hydraulic (H&H) Modeling and Floodplain Mapping | Community/Regional/State Agency | The CTC partner develops digital engineering data and floodplain mapping using GIS-based or traditiional H&H modeling.
DFIRM Preparation | Community/Regional/State Agency | The CTC partner digitizes the effective FIRM into a DFIRM.
Redelineation of Detailed Flood Hazard Information Using Updated Topographic Data | Community/Regional/State Agency | The CTC partner redelineates the effective flood hazard information using more up-to-date topographic data. GIS is used, where available.

Where no funding will be provided to CTC partners for the following mapping activities, we may provide techical assistance, support, and data to the CTC partner:

Activity | Partner | Description
Base Map Inventory | Regional or State Agency | The CTC partner performs an investigation and provides an inventory of base maps meeting FEMA's specifications for NFIP communities in the state.
Digital Base Map Data Sharing | Community/Regional/State Agency | The CTC partner supplies a base map for DFIRM production. The base map will comply with FEMP's minimum accuracy requirements and be distributable by FEMA to the public (hardcopy and electronic formats).
DFIRM Maintenance | Community/Regional/State Agency | The CTC partner assumes responsibility for long-term, periodic maintenance of the DFIRM. This can include base map and/or flood information.
Hydrologic and Hydraulic Review Agreement ¹ | Community/Regional/State Agency | The CTC partner evaluates H&H studies prepared for flood data updates and/or 44 CFR Part 65 map revisions. The review will focus on compliance with the technical and regulatory requirements contained in FEMA's varous flood mapping guidelines and specifications, the pertinent NFIP flood mapping regulations, as well as standard accepted engineering practices.
Analysis of Community Mapping Needs (to support FEMNA's Mapping Needs Update Support System (MNUSS)) | Regional/State Agency | The CTC partner performs a detailed community-by-community investigation and assessment of every NFIP community's mapping needs, including flood data updates, map maintenance, and includes unmapped communities. (This activity was eligible for funding in FY 1999, but is no longer eligible for funding).
Technical Standards Agreement | Community/Regional/State Agency | Adoption of specific technical standards or processes appropriate for local conditions for NFIP flood mapping purposes.
¹ This activity is currently being considered as a pilot activity.

(d) Eligibility Criteria.

We intend the cooperative agreements (CAs) awarded in this effort to supplement and not supplant on-going mapping efforts by the community, regional agency, or State. The FEMA funds would be in addition to the partner's current effort. This is the second year of this initiative and our Regional Offices have selected pilot communities based on the following criteria:

(1) The CTC partner must have existing processes or systems in place that support mapping or data collection activities that contribute to flood hazard identification. These ongoing processes or systems must be supported by non-federal funding.

(2) The CTC partner must have demonstrated the capability to perform the mapping activities for which it is applying.

(3) The CTC partner must be a community participating in the NFIP, and be in good standing in the program as determined by our Regional Office, or be a State or regional agency that serves communities that participate in the NFIP.

We will evaluate these criteria, which have been used in this pilot year, and we will further enhance them in subsequent years. In addition to the selection criteria above, communities that receive a CA must be able to perform the financial management activities required as part of the cooperative agreement (i.e., account for federal funds, prepare financial reports). Our regional offices will assist the communities with these financial management activities.

(e) Cooperating Technical Community Contacts.

Region 1: (Connecticut, Maine, Massachusetts, New Hampshire, Rhode Island, Vermont), Dean Savramis, 442 J.W. McCormack POCH, Boston, MA 02109, Telephone: (617) 223-9564, (e:mail) dean.savramis@fema.gov.

Region 2: (New Jersey, New York, Puerto Rico, Virgin Islands), Paul Weberg, 26 Federal Plaza, Room 1337, New York, NY 10278, (212) 225-7229, (e:mail) paul.weberg@fema.gov.

Region 3: (Delaware, Maryland, Pennsylvania, Virginia, West Virginia, District of Columbia), Erik Rourke, 615 Chestnut Street, 6th Floor, Philadelphia, PA 19106, (215) 931-5665, (e:mail) erik.rourke@fema.gov.

Region 4: (Alabama, Florida, Georgia, Kentucky, Mississippi, North Carolina, South Carolina, Tennessee), Laura Algeo, 3003 Chamblee Tucker Rd., Atlanta, GA 30341, Telephone: (770) 220-5436, (e:mail) laura.algeo@fema.gov.

Region 5: (Illinois, Indiana, Michigan, Minnesota, Ohio, Wisconsin), Ken Hinterlong, 536 S. Clark Street, 6th Floor, Chicago, IL 60605, Telephone: (312) 408-5529, (e:mail) ken.hinterlong@fema.gov.

Region 6: (Arkansas, Louisiana, New Mexico, Oklahoma, Texas), Jack Quarles, FRC 800 North Loop 288, Denton, TX 76210, Telephone: (817) 898-5156, (e:mail) jack.quarles@fema.gov.

Region 7: (Iowa, Kansas, Missouri, Nebraska), Bob Franke, 2323 Grand Avenue, Suite 900, Kansas City, MO 64108, Telephone: (816) 283-7073, (e:mail) bob.franke@fema.gov.

Region 8: (Colorado, Montana, North Dakota, South Dakota, Utah, Wyoming), John Liou, Denver Federal Center, Bldg. 710, Box 25267, Denver, CO 80225, Telephone: (303) 235-4836, (e:mail) john.liou@fema.gov.

Region 9: (Arizona, California, Hawaii, Nevada, American Samoa, Guam), Les Sakumoto, Bldg. 105, Presidio of San Francisco, San Francisco, CA 94129, Telephone: (415) 923-7183, (e:mail) leslie.sakumoto@fema.gov.

Region 10: (Alaska, Idaho, Oregon, Washington), Larry Basich, Federal Regional Center, 130—228th Street, Bothell, WA 98021, Telephone: (425) 487-4703, (e:mail) lawrence.basich@fema.gov.

Dated: July 19, 2000.
Michael J. Armstrong,
Associate Director for Mitigation.

[FR Doc. 00-19707 Filed 8-2-00; 8:45 am]

BILLING CODE 6718-04-P